DEPARTMENT OF ENERGY

Federal Energy Regulatory Commission

[Docket No. RP01-23-002]

Algonquin Transmission Corporation; Notice of Compliance Filing

December 12, 2000.

Take notice that on November 27, 2000, Algonquin Gas Transmission Company (Algonquin) tendered for filing as part of its FERC Gas Tariff, Fourth Revised Volume No. 1, the following revised tariff sheets to become effective on November 1, 2000:

Sub First Revised Sheet No. 671

Sub First Revised Sheet No. 672

Algonquin states that the filing is being made in compliance with the Commission's October 27 Order, “Order on Filings to Establish Imbalance Netting and Trading Pursuant to Order Nos. 587-G and 587-L [93 FERC ¶ 61,903 (2000)].

Algonquin also states that copies of the filing were mailed to all affected customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32076 Filed 12-15-00; 8:45 am]

BILLING CODE 6717-01-M